FEDERAL DEPOSIT INSURANCE CORPORATION

Agency Information Collection Activities: Proposed Collection; Comment Request Re: Information Collection for Qualitative Research

AGENCY: Federal Deposit Insurance Corporation (FDIC).

ACTION: Notice and request for comment.

SUMMARY: In accordance with the requirements of the Paperwork Reduction Act (PRA) of 1995 (44 U.S.C. chapter 35), the FDIC may not conduct or sponsor, and the respondent is not required to respond to, an information collection unless it displays a currently valid Office of Management and Budget (OMB) control number. The FDIC hereby gives notice that it is seeking comment on a proposed new generic collection of information from persons who may participate in financial services focus groups and interviews. At the end of the comment period, any comments and recommendations received will be analyzed to determine the extent to which the collection should be modified prior to submission to OMB for review and approval.

DATES: Comments must be submitted on or before August 19, 2013.

ADDRESSES: Interested parties are invited to submit written comments to the FDIC by any of the following methods:

• http://www.FDIC.gov/regulations/laws/federal/notices.html

• Email: comments@fdic.gov Include the name of the collection in the subject line of the message.

• Mail: Leneta G. Gregorie (202-898-3719), Counsel, Room NY-5050, Federal Deposit Insurance Corporation, 550 17th Street NW., Washington, DC 20429.

• Hand Delivery: Comments may be hand-delivered to the guard station at the rear of the 17th Street Building (located on F Street), on business days between 7:00 a.m. and 5:00 p.m.

All comments should reference “Information Collection for Qualitative Research.” A copy of the comments may also be submitted to the OMB desk officer for the FDIC: Office of Information and Regulatory Affairs, Office of Management and Budget, New Executive Office Building, Washington, DC 20503.

FOR FURTHER INFORMATION CONTACT: Leneta Gregorie, at the FDIC address above.

SUPPLEMENTARY INFORMATION:

Proposal for the Following New Generic Collection of Information

Title: Information Collection for Qualitative Research

OMB Number: 3064-NEW.

Affected Public: Consumers and financial services providers.

Estimated Number of Respondents: 550.

Estimated Average Time per Response: 3.125 hours (varying from 2.5 to 3.25 hours, including travel and intake form).

Total Annual Burden: 1,750 hours.

General Description of Collection: The FDIC plans to collect information from consumers and financial services providers through qualitative research methods such as focus groups, in-depth interviews, and/or qualitative virtual methods. The information collected will be used to deepen the FDIC's understanding of the knowledge, experiences, behaviors, capabilities, and preferences of consumers of financial services. These qualitative research methods will also contribute to the FDIC's understanding of how consumers, including those who are financially underserved, engage in financial services. Interviews of financial services providers are intended to uncover details regarding the opportunities and challenges regarding the provision of an array of financial services and products.

Qualitative type research does not seek to measure or quantify results. Instead, it will allow the FDIC to explore in more depth consumers' attitudes and behaviors toward financial services that can inform FDIC's consumer protection, economic inclusion, and asset building strategies, as well as other consumer financial research topics. These qualitative methods will also provide an opportunity to identify specific financial services and terminology used by these consumers that will improve FDIC's periodic economic inclusion survey instruments (OMB Control Nos. 3064-0158 and 3064-0167). Interviews of financial services providers will help to improve the FDIC's general knowledge of the financial services industry.

Participation in this information collection will be voluntary and conducted in person, by phone, or using other methods, such as virtual technology. The FDIC plans to retain an experienced contractor(s) to recommend the most appropriate collection method based on the objectives of each qualitative research effort. It is likely that each qualitative research effort will include a short intake form (1 or 2 pages long). The FDIC will consult with OMB regarding each specific information collection during the approval period. This voluntary collection of information will put a slight burden on a very small percentage of the public. The FDIC estimates that, over the three-year clearance period of this request, approximately 150 focus groups and 120 one-on-one interviews will be conducted for a variety of projects associated with financial services. Including travel time, this represents a total burden of approximately 5,250 hours or 1,750 hours per year for three years (3.25 hours per participant, including travel time and intake form × 500 participants) + (2.5 hour per participant, including travel time × 50 participants).

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the information collection on respondents, including through the use of automated collection techniques or other forms of information technology. All comments will become a matter of public record.

Dated at Washington, DC, this 14th day of June 2013.
Federal Deposit Insurance Corporation.
Robert E. Feldman,
Executive Secretary.

[FR Doc. 2013-14570 Filed 6-18-13; 8:45 am]

BILLING CODE 6714-01-P